ENVIRONMENTAL PROTECTION AGENCY

[FRL-6959-5]

Proposed CERCLA Administrative Cost Recovery Settlement; United States Department of the Navy

AGENCY: Environmental Protection Agency.

ACTION: Notice; request for public comment.

SUMMARY: In accordance with section 122(i) of the Comprehensive Environmental Response, Compensation, and Liability Act, as amended (“CERCLA”), 42 U.S.C. 9622(i), notice is hereby given of a proposed administrative settlement for recovery of past response costs concerning the Hooper Sands site in South Berwick, Maine with the following settling party: United States Department of the Navy. The settlement requires the settling party to seek Congressional authorization and appropriation to pay $1,005,478.00 to the Hazardous Substance Superfund. The settlement includes a covenant not to take administrative action against the settling party pursuant to section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection with the Docket Clerk, U.S. Environmental Protection Agency—New England, Region 1, Suite 1100 (RAA), Boston, Massachusetts 02114-2023, (617) 918-1093 (U.S. EPA CERCLA Docket No. I-98-1041).

DATES: Comments must be submitted on or before April 27, 2001.

ADDRESSES: The proposed settlement is available for public inspection or may be obtained by mail by contacting Kathleen Woodward, U.S. Environmental Protection Agency—New England, Region 1, Suite 1100 (SEL), Boston, Massachusetts 02114-2023, (617) 918-1780. Comments should reference the Hooper Sands Site, South Berwick, Maine and EPA CERCLA Docket No. I-98-1041.

FOR FURTHER INFORMATION CONTACT: Kathleen Woodward, U.S. Environmental Protection Agency—New England, Region 1, Suite 1100 (SEL), Boston, Massachusetts 02114-2023, (617) 918-1780.

Dated: March 13, 2001.
Patricia L. Meaney,
Director, Office of Site Remediation and Restoration.

[FR Doc. 01-7638 Filed 3-27-01; 8:45 am]

BILLING CODE 6560-50-P